DEPARTMENT OF JUSTICE

Notice of Lodging of Proposed First Amendment to Consent Decree

On November 19, 2021, the Department of Justice lodged a proposed First Amendment to Consent Decree with the United States District Court for the Western District of Louisiana in the lawsuit entitled United States et al. v. Columbian Chemical Company, (W.D. La.), Civil Case. No. 6:17-cv-01661.

The Consent Decree, entered by the Court on August 14, 2018, resolved claims by the United States, the State of Kansas, and the State of Louisiana alleging violations of certain Clean Air Act provisions at two carbon black manufacturing facilities owned and operated by Columbian Chemicals (now “Birla”). The Consent Decree requires Defendant to reduce harmful SO2, NOX, and PM emissions through the installation and operation of pollution controls at its North Bend, Louisiana and Hickok, Kansas facilities. Defendant also agreed to spend $375,000 to fund environmental mitigation projects that will further reduce emissions and benefit communities adversely affected by the pollution from the facilities, and pay a civil penalty of $650,000.

The proposed First Amendment to Consent Decree would, if entered by the Court, make modifications to the Consent Decree to address and resolve claims by Defendant that force majeure events caused delays in meeting certain compliance deadlines at Defendant's Borger, Texas facility. The modifications extend certain deadlines in the Consent Decree, while maintaining Defendant's ultimate obligation to install and operate pollution controls at its facilities.

The publication of this notice opens a period for public comment on the proposed First Amendment to Consent Decree. Comments should be addressed to the Assistant Attorney General, Environment and Natural Resources Division, and should refer to United States et al. v. Columbian Chemicals Company, (W.D. La.), D.J. Ref. No. 90-5-2-1-10943. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed First Amendment to Consent Decree may be examined and downloaded at this Justice Department website: https://www.justice.gov/enrd/consent-decrees. We will provide a paper copy of the proposed First Amendment to Consent Decree upon written request and payment of reproduction costs. Please mail your request and payment to: Consent Decree Library, U.S. DOJ—ENRD, P.O. Box 7611, Washington, DC 20044-7611.

Please enclose a check or money order for $5.25 (25 cents per page reproduction cost) payable to the United States Treasury.

Thomas Carroll,
Assistant Section Chief, Environmental Enforcement Section, Environment and Natural Resources Division.

[FR Doc. 2021-25867 Filed 11-24-21; 8:45 am]

BILLING CODE 4410-15-P